DEPARTMENT OF ENERGY

Federal Energy Regulatory Commission

Combined Notice of Filings

Take notice that the Commission has received the following Natural Gas Pipeline Rate and Refund Report filings:

Filings Instituting Proceedings

Docket Numbers: CP17-15-002.

Applicants: Dominion Energy Cove Point LNG, LP.

Description: Amendment to Application of Dominion Energy Cove Point LNG, LP.

Filed Date: 5/6/19.

Accession Number: 20190506-5168.

Comments Due: 5 p.m. ET 5/28/19.

Docket Numbers: RP19-879-001.

Applicants: Southern Natural Gas Company, L.L.C.

Description: Compliance filing Order No. 587-Y Correction Filing to be effective 8/1/2019.

Filed Date: 5/9/19.

Accession Number: 20190509-5082.

Comments Due: 5 p.m. ET 5/16/19.

Docket Numbers: RP19-880-001.

Applicants: Southern LNG Company, L.L.C.

Description: Compliance filing Order No. 587-Y Correction Filing to be effective 8/1/2019.

Filed Date: 5/9/19.

Accession Number: 20190509-5088.

Comments Due: 5 p.m. ET 5/16/19.

Docket Numbers: RP19-881-001.

Applicants: Elba Express Company, L.L.C.

Description: Compliance filing Order No. 587-Y Correction Filing to be effective 8/1/2019.

Filed Date: 5/9/19.

Accession Number: 20190509-5094.

Comments Due: 5 p.m. ET 5/16/19.

Docket Numbers: RP19-1217-000.

Applicants: Gulf Crossing Pipeline Company LLC.

Description: § 4(d) Rate Filing: Superseding Neg Rate Agmt (Encana 2075) to be effective 4/1/2019.

Filed Date: 5/10/19.

Accession Number: 20190510-5034.

Comments Due: 5 p.m. ET 5/22/19.

Docket Numbers: RP19-1218-000.

Applicants: Cameron Interstate Pipeline, LLC.

Description: § 4(d) Rate Filing: Neg Rate Non-Conf Filing and Addition of Volume 1A to eTariff to be effective 6/10/2019.

Filed Date: 5/10/19.

Accession Number: 20190510-5087.

Comments Due: 5 p.m. ET 5/22/19.

Docket Numbers: RP19-1219-000.

Applicants: Golden Pass Pipeline LLC.

Description: Pre-Arranged/Pre-Agreed (Stipulation and Agreement of Settlement) Filing of Golden Pass Pipeline, LLC under RP19-1219.

Filed Date: 5/10/19.

Accession Number: 20190510-5109.

Comments Due: 5 p.m. ET 5/22/19.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2019.
Nathaniel J. Davis, Sr.,
Deputy Secretary.

[FR Doc. 2019-10423 Filed 5-17-19; 8:45 am]

BILLING CODE 6717-01-P